DEPARTMENT OF COMMERCE

Census Bureau

Agency Information Collection Activities; Submission to the Office of Management and Budget (OMB) for Review and Approval; Comment Request; Survey of Income and Program Participation

The Department of Commerce will submit to the Office of Management and Budget (OMB) for clearance the following proposal for collection of information under the provisions of the Paperwork Reduction Act.

Agency: U.S. Census Bureau.

Title: Survey of Income and Program Participation.

OMB Control Number: 0607-1000.

Form Number(s): None.

Type of Request: Revision of a currently approved collection.

Number of Respondents: 70,560.

Average Hours per Response: 63 minutes.

Burden Hours: 74,088.

Needs and Uses: The 2018 SIPP collects information about a variety of topics including

demographics, household composition, education, nativity and citizenship, health insurance coverage, Medicaid, Medicare, employment and earnings, unemployment insurance, assets, child support, disability, housing subsidies, migration, Old-Age Survivors and Disability Insurance (OASDI), poverty, and participation in various government programs like Supplemental Nutrition Assistance Program (SNAP), Supplemental Security Income (SSI), and Temporary Assistance for Needy Families (TANF). The SIPP sample is nationally representative, with an oversample of low-income areas, in order to increase the ability to measure participation in government programs.

The SIPP program provides critical information necessary to understand patterns and relationships in income and program participation. It will fulfill its objectives to keep respondent burden and costs low, maintain high data quality and timeliness, and use a refined and vetted instrument and processing system. The SIPP data collection instrument maintains the improved data collection experience for respondents and interviewers, and focuses on improvements in data quality and better topic integration.

Starting in 2019, the Census Bureau and the Social Security Administration (SSA) entered into a joint agreement where both agencies support the SIPP program by contributing resources to add, process, review, and maintain additional content on marital history, parental mortality, retirement and pension, and disability. This joint agreement started in September 2019 and goes until September 30, 2023.

The SIPP instrument is currently written in Blaise and C#. It incorporates an Event History Calendar (EHC) design to help ensure that the SIPP will collect intra-year dynamics of income, program participation, and other activities with at least the same data quality as earlier panels. The EHC is intended to help respondents recall information in a more natural “autobiographical” manner by using life events as triggers to recall other economic events. For example, a residence change may often occur contemporaneously with a change in employment. The entire process of compiling the calendar focuses, by its nature, on consistency and sequential order of events, and attempts to correct for otherwise missing data.

Since the SIPP EHC collects information using this “autobiographical” manner for the prior year, due to the coronavirus pandemic, select questions were modified to include answer options related to the pandemic as well as adding new questions pertaining to the pandemic. For instance, we adjusted the question regarding being away from work part-time to include being possibly furloughed due to coronavirus pandemic business closures. We also added new questions to collect information on whether the respondent receive any stimulus payments.

Information quality, as described by the Census Bureau's Information Quality Guidelines, is an integral part of the pre-dissemination review of information released by the Census Bureau. Information quality is essential to data collections conducted by the Census Bureau and is incorporated into the clearance process required by the Paperwork Reduction Act.

Affected Public: Individuals or Households.

Frequency: Annually.

Respondent's Obligation: Voluntary.

Legal Authority: Title 13, United States Code, Sections 141, 182.

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1000.

Sheleen Dumas,
Department PRA Clearance Officer, Office of the Chief Information Officer, Commerce Department.

[FR Doc. 2020-24058 Filed 10-29-20; 8:45 am]

BILLING CODE 3510-07-P